DEPARTMENT OF AGRICULTURE

Forest Service

Notice of New Fee Site; Federal Lands Recreation Enhancement Act, (Title VIII, Pub. L. 108-447)

AGENCY: Kootenai National Forest, USDA Forest Service.

ACTION: Notice of New Fee Site.

SUMMARY: The Kootenai National Forest proposes to begin charging a $25 day use fee for rental of the Bull River Pavilion (10 a.m.-10 p.m.). An additional $15 fee will be charged for use past 10 p.m. to be paid at the district. Rentals of other day use sites on the Kootenai National Forest show that the public appreciate and enjoy the availability of reserving and using group site facilities. Funds from the rental will be used for the continued operation and maintenance of the Bull River Pavilion.

DATES: Bull River Pavilion will become available for rent July 1, 2006. Comments, concerns, or questions about this new fee must be submitted by January 30, 2006.

ADDRESSES: Forest Supervisor's Office, 1101 U.S. Hwy. 2 West, Libby, Montana, 59923.

FOR FURTHER INFORMATION CONTACT: Bill Fansler, Forest Recreation Officer, 406-293-6211.

SUPPLEMENTARY INFORMATION: The Federal Recreation Lands Enhancement Act (Title VII, Pub. L. 108-447) directed the Secretary of Agriculture to publish a six month advance notice in the Federal Register whenever new recreation fees are established. The intent of this notice is to give publics an opportunity to comment if they have concerns or questions about new fees. The Kootenai National Forest currently has four other groups sites that can be reserved. An analysis of Bull River Pavilion has shown that people desire having this sort of recreation experience on the Kootenai National Forest. A market analysis indicated that the $25 day use fee with the $15 additional night use fee is both reasonable and acceptable for this sort of unique recreation experience. People want to rent Bull River Pavilion will need to do so through the National Recreation Reservation Service, at http://www.reserveusa.com or by calling 1-877-444-6777. The National Recreation Reservation Service charges a $9 fee for reservations.

Dated: December 21, 2005.
Bob Castaneda,
Kootenai National Forest Supervisor.

[FR Doc. 05-24631 Filed 12-29-05; 8:45 am]

BILLING CODE 3410-11-M